DEPARTMENT OF DEFENSE

[OMB Control Number 0704-0272]

Information Collection Requirements; Defense Federal Acquisition Regulation Supplement; Environment, Conservation, and Occupational Safety

AGENCY: Department of Defense (DoD).

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through August 31, 2001. DoD proposes that OMB extend its approval for use through August 31, 2004.

DATES: DoD will consider all comments received by May 7, 2001.

ADDRESSES: Respondents may submit comments directly on the World Wide Web at http://emissary.acq.osd.mil/dar/dfars.nsf/pubcomm. As an alternative, respondents may e-mail comments to: dfars@acq.osd.mil. Please cite OMB Control Number 0704-0272 in the subject line of e-mailed comments.

Respondents that cannot submit comments using either of the above methods may submit comments to: Defense Acquisition Regulations Council, Attn: Ms. Sandra Haberlin, OUSD(AT&L)DP(DAR), IMD 3C132, 3062 Defense Pentagon, Washington, DC 20301-3062; facsimile (703) 602-0350. Please cite OMB Control Number 0704-0272.

At the end of the comment period, interested parties may view public comments on the World Wide Web at http://emissary.acq.osd.mil/dar/dfars.nsf.

FOR FURTHER INFORMATION CONTACT: Ms. Sandra Haberlin, (703) 602-0289. The information collection requirements addressed in this notice are available electronically on the World Wide Web at: http://www.acq.osd.mil/dp/dars/dfars.html. Paper copies are available from Ms. Sandra Haberlin, OUSD(AT&L)DP(DAR), IMD 3C132, 3062 Defense Pentagon, Washington, DC 20301-3062.

SUPPLEMENTARY INFORMATION: Title and OMB Number: Defense Federal Acquisition Regulation Supplement (DFARS) Part 223, Environment, Conservation, and Occupational Safety, and related clauses in DFARS 252.223; OMB Control Number 0704-0272.

Needs and Uses: This information collection requires that an offeror/contractor provide information in response to solicitation provisions and contract clauses in DFARS 252.223, excluding those provisions and clauses relating to a drug-free workplace (which are approved under OMB Control Number 0704-0336). DoD contracting officers use this information to—

• Verify compliance with requirements for labeling of hazardous material;

• Ensure contractor compliance and monitor subcontractor compliance with DoD 4145.26-M, DoD Contractors' Safety Manual for Ammunition and Explosives, and minimize risk of mishaps;

• Identify the place of performance of all ammunition and explosives work; and

• Ensure contractor compliance and monitor subcontractor compliance with DoD 5100.76-M, Physical Security of sensitive Conventional Arms, Ammunition, and Explosives.

Affected Public: Businesses or other for-profit and not-for-profit institutions.

Annual Burden Hours: 9,996.

Number of Respondents: 8,873.

Responses Per Respondent: 1.66.

Annual Responses: 14,726.

Average Burden Per Response: .68 hours.

Frequency: On occasion.

Summary of Information Collection

This information collection includes the following requirements:

1. DFARS 252.223-7001, Hazard Warning Labels

Paragraph (c) requires all offerors to list which hazardous materials will be labeled in accordance with certain statutory requirements instead of the Hazard Communication Standard. Paragraph (d) requires only the apparently successful offeror to submit, before award, a copy of the hazard warning label for all hazardous materials not listed in paragraph (c) of the clause.

2. DFARS 252.223-7002, Safety Precautions for Ammunition and Explosives

Paragraph (c)(2) requires the contractor, within 30 days of notification of noncompliance with DoD 4145.26-M, to notify the contracting officer of actions taken to correct the noncompliance. Paragraph (d)(1) requires the contractor to notify the contracting officer immediately of any mishaps involving ammunition or explosives. Paragraph (d)(3) requires the contractor to submit a written report of the investigation of the mishap to the contacting officer. Paragraph (g)(4) requires the contractor to notify the contracting officer before placing a subcontract for ammunition or explosives.

3. DFARS 252.223-7003, Changes in Place of Performance—Ammunition and Explosives

Paragraph (a) requires the offeror to identify, in the Place of Performance provision of the solicitation, the place of performance of all ammunition and explosives work covered by the Safety Precautions for Ammunition and Explosives clause of the solicitation. Paragraphs (b) and (c) require the offeror/contractor to obtain written permission from the contacting officer before changing the place of performance after the date set for receipt of offers or after contract award.

4. DFARS 252.223-7007, Safeguarding Sensitive Conventional Arms, Ammunition, and Explosives

Paragraph (e) requires the contractor to notify the cognizant Defense Security Service field office within 10 days after award of any subcontract involving sensitive conventional arms, ammunition, and explosives within the scope of DoD 5100.76-M.

Michele P. Peterson,
Executive Editor, Defense Acquisition Regulations Council.

[FR Doc. 01-5586 Filed 3-6-01; 8:45 am]

BILLING CODE 5000-04-M